DEPARTMENT OF THE INTERIOR

Fish and Wildlife Service

[FWS-R8-R-2018-N122; FF08RSDC00-190-F1611MD-FXRS12610800000]

Otay River Estuary Restoration Project, South San Diego Bay Unit of the San Diego Bay National Wildlife Refuge, California; Record of Decision

AGENCY: Fish and Wildlife Service, Interior.

ACTION: Notice of availability; record of decision.

SUMMARY: We, the U.S. Fish and Wildlife Service (Service), announce the availability of the record of decision (ROD) for the San Diego Bay National Wildlife Refuge—Otay River Estuary Restoration Project final environmental impact statement (EIS). The ROD explains that, of the three alternatives examined in the final EIS, the chosen alternative is the environmentally preferred alternative.

ADDRESSES: Document Availability: The ROD is available at:

• Internet: https://www.fws.gov/refuge/San_Diego_Bay/what_we_do/Resource_Management/Otay_Restoration.html.

• In Person:

o San Diego National Wildlife Refuge Complex Headquarters, 1080 Gunpowder Point Drive, Chula Vista, CA 91910; telephone: 619-476-9150, extension 103.

FOR FURTHER INFORMATION CONTACT: Brian Collins, Refuge Manager, San Diego Bay National Wildlife Refuge at 619-575-2704, extension 302 (telephone) or brian_collins@fws.gov (email); or Andy Yuen, Project Leader, 619-476-9150, extension 100 (telephone), or andy_yuen@fws.gov (email).

SUPPLEMENTARY INFORMATION:

Background

In 2006, we completed the San Diego Bay National Wildlife Refuge (NWR) Comprehensive Conservation Plan (CCP) and final EIS/ROD to guide the management of the San Diego Bay NWR over a 15-year period (71 FR 64552, November 2, 2006). The wildlife and habitat management goal of the selected management alternative in the CCP for the South San Diego Bay Unit is to “Protect, manage, enhance, and restore . . . coastal wetlands . . . to benefit the native fish, wildlife, and plant species supported within the South San Diego Bay Unit.” One of the strategies identified to meet this goal is to restore native habitats in the Otay River floodplain and the salt ponds.

On September 29, 2010, the San Diego NWR Complex and Poseidon Resources (Channelside) LP (Poseidon) entered into a memorandum of understanding to establish a partnership to facilitate the restoration of property within the San Diego Bay NWR, consistent with the CCP and Poseidon's restoration requirements from the California Coastal Commission (Commission) in an approved coastal development permit (CDP No. E-06-013) related to the construction and operation of a desalination plant in Carlsbad, California.

We published a notice of intent (NOI) to prepare an EIS for the Otay River Estuary Restoration Project on November 14, 2011 (76 FR 70480), followed by a second NOI on January 8, 2013 (78 FR 1246), when the project was expanded to include the restoration of Pond 15. We published a notice of availability (NOA) of the draft EIS for the project on October 21, 2016 (81 FR 72817), and an NOA of the final EIS on May 18, 2018 (83 FR 23289).

Project

The project site is located at the south end of San Diego Bay, San Diego County, California, within the South San Diego Bay Unit of the San Diego Bay NWR. Restoration activities will occur at two separate locations within the Refuge: The 34-acre Otay River Floodplain Site, located to the west of Interstate 5 between Main Street to the north and Palm Avenue to the south in the City of San Diego, and the 91-acre Pond 15 Site, an active solar salt pond, located in the northeastern portion of the Refuge to the northwest of the intersection of Bay Boulevard and Palomar Street in the City of Chula Vista.

Alternatives

We analyzed three alternatives in the final EIS, including the no action alternative and two action alternatives, for restoring the two areas on the San Diego Bay NWR that comprise the restoration project. In addition to a no-action alternative, the action alternatives include an intertidal alternative and a subtidal alternative.

Alternative B: Intertidal Alternative (Selected Alternative)

The Intertidal Alternative (Alternative B) proposes to lower the elevation and re-contour the Otay River Floodplain Site to create approximately 30 acres of tidally influenced habitat consisting of approximately 5 acres of intertidal mudflat and 25 acres of intertidal salt marsh habitat, 1 acre of transitional habitat and high tide refugia, and 4 acres of upland habitat.

Approximately 320,000 cubic yards of soil would be excavated from the Otay River Floodplain Site to achieve elevations suitable for sustaining intertidal wetlands. The majority of the excavated material, approximately 260,000 cubic yards, would be transported to Pond 15 to be beneficially used as fill within the Pond 15 Site, as well as to reinforce existing levees around the pond. Pond 15 would be filled and contoured to achieve elevations required to support approximately 10 acres of subtidal habitat, 18 acres of intertidal mudflat, 57 acres of intertidal salt marsh habitat, 1.6 acres of transitional habitat and high tide refugia, and 4 acres of upland habitat.

The combination of the wetlands created at the Otay River Floodplain Site and Pond 15 Site under this alternative would be consistent with the intent of the CCP and would provide sufficient mitigation credit to meet Poseidon's Coastal Development Permit requirements.

Alternative C: Subtidal Alternative

The Subtidal Alternative (Alternative C), which would include a subtidal channel within the Otay River Floodplain Site, would result in the restoration of approximately 4.5 acres of subtidal habitat, 6.5 acres of intertidal mudflat, 18 acres of intertidal salt marsh habitat, and 4 acres of upland habitat. Within the Pond 15 Site, tidally influenced habitat would be similar to that proposed under Alternative B, with approximately 10 acres of subtidal habitat, 16 acres of intertidal mudflat, 59 acres of intertidal salt marsh, 2 acres of high-tide refugia, and 4 acres of upland habitat.

Implementation of this alternative would involve the excavation of approximately 370,000 cubic yards of material from the Otay River Site, of which approximately 310,000 cubic yards of this material would be transported to the Pond 15 Site for beneficial use in creating tidal elevations that would support the desired intertidal habitats and improving levees to separate Pond 15 from the remaining active solar salt operation.

The combination of the wetlands created at the Otay River Floodplain Site and Pond 15 Site under this alternative would also provide sufficient mitigation credit to meet the Commission's permit requirements.

Selected Alternative

The ROD identifies the intertidal alternative (Alternative B) as the selected alternative. This alternative was also identified as the environmentally preferred alternative in the final EIS. The basis for the decision, descriptions of the alternatives considered, an overview of the measures to be implemented to avoid and minimize environmental effects, and a summary of the public involvement process are provided in the ROD.

Authority

We publish this notice under the authority of the National Environmental Policy Act (42 U.S.C. 4371 et seq.) and the Department of the Interior's implementing regulations in title 43 of the Code of Federal Regulations (43 CFR part 46).

Jody Holzworth,
Regional Director, Pacific Southwest Region.

[FR Doc. 2018-23823 Filed 10-30-18; 8:45 am]

BILLING CODE 4333-15-P